DEPARTMENT OF THE INTERIOR

Bureau of Land Management

[LLNVE0000 L51100000.GN0000 LVEMF1200580; 14-08807; MO# 4500054727; TAS: 14X5017]

Notice of Availability of the Final Environmental Impact Statement for the Arturo Mine Project, Elko County, NV

AGENCY: Bureau of Land Management, Interior.

ACTION: Notice of availability.

SUMMARY: In accordance with the National Environmental Policy Act of 1969, as amended, and the Federal Land Policy and Management Act of 1976, as amended, the Bureau of Land Management (BLM) has prepared a Final Environmental Impact Statement (EIS) for the Arturo Mine Project and by this notice is announcing its release for public review.

DATES: The BLM will not issue a final decision on the proposal for a minimum of 30 days of the date that the Environmental Protection Agency publishes their notice in the Federal Register.

ADDRESSES: Copies of the Final EIS for the Arturo Mine Project are available for public inspection at the BLM Elko District Office. Interested persons may also review the Final EIS on the Internet at http://www.blm.gov/nv/st/en/fo/elko_field_office/blm_information/nepa/nepa_archives/NEPA_Front.html.

FOR FURTHER INFORMATION CONTACT: John Daniel, Project Manager, telephone: 775-753-0277; address: 3900 Idaho Street, Elko, NV 89801; email: BLM_NV_ELDOArturoEIS_Comments@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Barrick-Dee Mining Venture, Inc., proposes to develop the Arturo Mine Project by expansion of the existing open-pit Dee Gold Mine, which is currently in closure and reclamation, and create approximately 240 jobs. The Dee Gold Mine is 45 miles northwest of Elko in Elko County, Nevada. The proposed project would create approximately 2,774 acres of new surface disturbance on public lands administered by the BLM. While dewatering is not proposed for this project, pit lakes would form as a result of cessation of dewatering at the Goldstrike Mine, located approximately 8 miles to the southeast.

The project proposal would include the expansion of the existing open pit from one to three lobes, construction of two new waste-rock disposal storage facilities, a new heap leach facility, new support facilities to include an office, substation and associated power transmission lines, water wells, water distribution and sewer systems, landfill, mined material stockpile, communications site, stormwater control features, haul roads and an access road, and continued surface exploration.

Mill-grade ore would be transported to the Barrick Gold Mining, Inc.'s Goldstrike Mine using the Bootstrap Mine Haul Road and would be processed at the existing mill facilities located approximately 8 miles to the southeast of the proposed project. Low-grade ore would be processed on-site at the proposed heap leach pad and associated processing facilities. Mine operations and processing would continue for approximately 10 years, followed by an estimated 3 years of site closure and reclamation. Reclamation would occur concurrently with mining to the extent possible.

Cooperating agencies in the development of the EIS include the Nevada Department of Wildlife and the Elko County Board of Commissioners. The Nevada Department of Wildlife is concerned about the loss of habitat for mule-deer and Greater Sage-Grouse associated with mine disturbance. The Elko County Board of Commissioners has raised concerns about economic impacts to local communities, including impacts to livestock grazing.

The Draft EIS for the Arturo Mine Project was published and available for review on January 18, 2013. A 45-day comment period occurred. The BLM received a total of six written comment submissions containing 140 individual items during the public comment period. Key issues identified by tribal members, groups or organizations, and governmental entities include: Potential impacts to cultural resources, discharge to surface water, seeps and springs, post-closure groundwater contamination, air quality, and loss of wildlife habitat including Greater Sage-Grouse Preliminary Priority Habitat. These issues are addressed in the Final EIS and impacts associated with active production were found to be not significant.

The Final EIS is an abbreviated final, correcting errors in the draft and adding a small amount of new information due to some changes in equipment at the existing exploration facilities.

Comments on the Draft EIS received from the public and internal BLM review were considered and incorporated as appropriate into the Final EIS. Public comments resulted in the addition of clarifying text, but did not significantly change the analysis.

Following a 30-day Final EIS availability and review period, a Record of Decision (ROD) will be issued. The decision reached in the ROD is subject to appeal to the Interior Board of Land Appeals. The 30-day appeal period begins with the issuance of the ROD.

Authority: 40 CFR 1506.6, 40 CFR 1506.10.

Richard E. Adams,
Field Manager, Tuscarora Field Office.

[FR Doc. 2014-05483 Filed 3-13-14; 8:45 am]

BILLING CODE 4310-HC-P